DEPARTMENT OF ENERGY

Federal Energy Regulatory Commission

[Docket No. CP11-506-000]

Texas Eastern Transmission, LP; Notice of Request Under Blanket Authorization

Take notice that on July 1, 2011, Texas Eastern Transmission, LP (Texas Eastern), filed an application pursuant to sections 157.205, 157.208, and 157.210 of the Commission's regulations, requesting authorization to uprate the existing electric compressor unit at its Kosciusko Compressor Station from 12,500 horsepower (hp) to 16,875 hp and effectively increase the certificated capacity at the Kosciusko Compressor Station by 4,375 hp from 47,500 hp to 51,875 hp, all as more fully set forth in the application which is on file with the Commission. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this prior notice should be directed to Lisa A. Connolly, General Manager, Rates & Certificates, Texas Eastern Transmission, LP, P.O. Box 1642, Houston, Texas 77251-1642, or telephone (713) 627-4488, or fax (713) 627-5947or by e-mail laconnolly@spectraenergy.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link. Persons unable to file electronically should submit an original and 14 copies of the protest or intervention to the Federal Energy Regulatory Commission, 888 First Street, NE., Washington, DC 20426.

Dated: July 12, 2011.
Kimberly D. Bose,
Secretary.

[FR Doc. 2011-17988 Filed 7-15-11; 8:45 am]

BILLING CODE 6717-01-P